ENVIRONMENTAL PROTECTION AGENCY

[EPA-HQ-OAR-2007-0478, FRL- 9967-03-OEI]

Information Collection Request Submitted to OMB for Review and Approval; Comment Request; Regulation of Fuels and Fuel Additives: Gasoline Volatility (Renewal)

AGENCY: Environmental Protection Agency (EPA).

ACTION: Notice.

SUMMARY: The Environmental Protection Agency has submitted an information collection request (ICR), Regulation of Fuels and Fuel Additives: Gasoline Volatility (EPA ICR No. 1367.12, OMB Control No. 2060-0178) to the Office of Management and Budget (OMB) for review and approval in accordance with the Paperwork Reduction Act (PRA). This is a proposed extension of the ICR, which is currently approved through August 31, 2017. Public comments were previously requested via the Federal Register (82 FR 29548) on June 29, 2017 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 28, 2017.

ADDRESSES: Submit your comments, referencing Docket ID No. EPA-HQ-OAR-2007-0478, online using https://www.regulations.gov (our preferred method), by email to a-and-r-docket@epa.gov, or by mail to: EPA Docket Center, Environmental Protection Agency, Mail Code: 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: James W. Caldwell, Compliance Division, Office of Transportation and Air Quality, Mail Code 6406J, Environmental Protection Agency, 1200 Pennsylvania Ave. NW., Washington, DC 20460; telephone number: (202) 343-9303; fax number: (202) 343-2801; email address: caldwell.jim@epa.gov.

SUPPLEMENTARY INFORMATION: Supporting documents which explain in detail the information that the EPA will be collecting are available in the public docket for this ICR. The docket can be viewed online at https://www.regulations.gov or in person at the EPA Docket Center, EPA West, Room 3334, 1301 Constitution Ave. NW., Washington, DC. The telephone number for the Docket Center is 202-566-1744. For additional information about EPA's public docket, visit http://www.epa.gov/dockets.

Abstract: Gasoline volatility, as measured by Reid Vapor Pressure (RVP) in pounds per square inch (psi), is controlled in the spring and summer in order to minimize evaporative hydrocarbon emissions from motor vehicles. RVP is subject to a Federal standard of 7.8 psi or 9.0 psi, depending on location. The addition of ethanol to gasoline increases the RVP by about 1 psi. Gasoline that contains 9 volume percent to 10 volume percent ethanol is subject to a standard that is 1.0 psi greater. As an aid to industry compliance and EPA enforcement, the product transfer document, which is prepared by the producer or importer and which accompanies a shipment of gasoline containing ethanol, is required by regulation to contain a legible and conspicuous statement that the gasoline contains ethanol and the percentage concentration of ethanol. This is intended to deter the mixing within the distribution system, particularly in retail storage tanks, of gasoline which contains ethanol in the 9 to 10 percent range with gasoline which does not contain ethanol in that range. Such mixing would likely result in a gasoline which is in violation of its RVP standard. Also, a party wishing a testing exemption, for research on gasoline that is not in compliance with the applicable volatility standard, must submit certain information to EPA.

Form Numbers: None.

Respondents/affected entities: Entities potentially affected by this action are those who produce or import gasoline containing ethanol, or who wish to obtain a testing exemption.

Respondent's obligation to respond: Mandatory per 40 CFR 80.27(d) and (e).

Estimated number of respondents: 2,000.

Frequency of response: On occasion.

Total estimated burden: 12,330 hours per year. Burden is defined at 5 CFR 1320.03(b).

Total estimated cost: $1.1 million, includes $20 annualized capital or operation & maintenance costs.

Changes in estimates: There is no change in the hours in the total estimated respondent burden compared with the ICR currently approved by OMB. The use of ethanol in gasoline has increased slightly, but that has been offset by a slight decrease in gasoline consumption.

Courtney Kerwin,
Director, Regulatory Support Division.

[FR Doc. 2017-18296 Filed 8-28-17; 8:45 am]

BILLING CODE 6560-50-P